DEPARTMENT OF ENERGY

Federal Energy Regulatory Commission

[Project No. 11563-057]

Northern California Power Agency; Notice of Availability of Final Environmental Assessment

August 31, 2010.

In accordance with the National Environmental Policy Act of 1969, as amended, and the Federal Energy Regulatory Commission's regulations, 18 CFR part 380 (Order No. 486, 52 FR 47879), the Commission has reviewed an application filed by the Northern California Power Agency (licensee) on May 26, 2010, and supplemented on July 11 and August 9, 2010, requesting Commission approval to temporarily amend the license for the Upper Utica Project, FERC No. 11563. The licensee seeks Commission approval to partially draw down Lake Alpine and deviate from the minimum reservoir surface elevation and minimum water volume requirements of the project license in order to facilitate repairs to the low-level outlet works. The Environmental Assessment (EA) analyzes the environmental impacts of the proposed activities and concludes that approval of the application, with appropriate environmental measures, would not constitute a major federal action significantly affecting the quality of the human environment. The project is located on Silver Creek and the North Fork Stanislaus River, in Tuolumne and Alpine Counties, California.

The EA was written by staff in the Office of Energy Projects, Federal Energy Regulatory Commission. A copy of the EA is attached to a Commission order titled “Order Approving Temporary License Amendment,” issued August 31, 2010, and is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at 1-866-208-3372, or for TTY, (202) 502-8659.

Kimberly D. Bose,
Secretary.

[FR Doc. 2010-22270 Filed 9-7-10; 8:45 am]

BILLING CODE 6717-01-P